Title 3—

The President

Memorandum of May 30, 2001

Delegation of Responsibilities Related to the Latin American Development Act of 1960

Memorandum for the Secretary of State

By the authority vested in me by the Constitution and laws of the United States of America, including section 301 of title 3 of the United States Code, I hereby delegate to the Secretary of State the functions conferred upon the President by the Latin American Development Act of 1960, 22 U.S.C. 1942 et seq.

The functions delegated by this memorandum may be redelegated as appropriate.

You are authorized and directed to publish this memorandum in the Federal Register.

B

THE WHITE HOUSE,

Washington, May 30, 2001.

[FR Doc. 01-14518

Filed 6-6-01; 8:45 am]

Billing code 4710-10-M